DEPARTMENT OF ENERGY

Federal Energy Regulatory Commission

[Docket No. AD07-13-000]

Conference on Enforcement; First Notice of Conference on Enforcement

July 11, 2007.

The Federal Energy Regulatory Commission plans to hold a conference on November 16, 2007, at its Washington, DC headquarters, 888 First Street, NE., to examine the implementation of its enforcement authority as expanded by the Energy Policy Act of 2005).¹

¹ Pub. L. 109-58, 119 Stat. 594 (2005).

The purpose of this notice is to advise the public of the date. More information on the starting and ending times, the topics to be explored, and the number and composition of the panels will be provided in subsequent notices.

All interested parties are invited, and there is no registration fee to attend.

The conference will not be transcribed but will be web cast. A free web cast of this event will be available through www.ferc.gov. Anyone with Internet access who desires to view this event can do so by navigating to www.ferc.gov's Calendar of Events and locating this event in the Calendar. The event will contain a link to its web cast. The Capitol Connection provides technical support for the web casts and offers access to the meeting via phone bridge for a fee. If you have any questions, you may visit www.CapitolConnection.org or contact Danelle Perkowski or David Reininger at 703-993-3100.

Questions about the conference, at this time may be directed to Susan J. Court, Director of the Office of Enforcement, by e-mail at Susan.Court@ferc.gov or by phone at 202-502-8100.

Kimberly D. Bose,
Secretary.

[FR Doc. E7-13870 Filed 7-17-07; 8:45 am]

BILLING CODE 6717-01-P